DEPARTMENT OF DEFENSE

Department of the Navy

Information on Surplus Land at a Military Installation Designated for Disposal: Naval Station Pascagoula, MS, Lakeside Manor and Sandhill Housing Areas

AGENCY: Department of the Navy, DoD.

ACTION: Notice.

SUMMARY: This notice provides information on the surplus property at Naval Station Pascagoula, MS, Lakeside Manor and Sandhill Housing areas.

FOR FURTHER INFORMATION CONTACT: Ms. Kimberly Kesler, Director, Base Realignment and Closure Program Management Office, 1455 Frazee Road, San Diego, CA 92108-4310, telephone 619-532-0993; or Mr. James E. Anderson, Base Realignment and Closure Program Management Office, Southeast, 2144 Eagle Drive, North Charleston, SC 29406, telephone 843-820-5809.

SUPPLEMENTARY INFORMATION: In 2005, Naval Station Pascagoula, Lakeside Manor and Sandhill Housing areas were designated for closure under the authority of the Defense Base Closure and Realignment Act of 1990, Public Law 101-510, as amended (the Act). Pursuant to this designation, on January 23, 2006, land and facilities at this installation were declared excess to the Department of Navy (Navy) and available to other Department of Defense components and other federal agencies. The Navy has evaluated all timely Federal requests and has made a decision on property required by the Federal Government.

Notice of Surplus Property. Pursuant to paragraph (7)(B) of Section 2905(b) of the Act, as amended by the Base Closure Community Redevelopment and Homeless Assistance Act of 1994, the following information regarding the surplus property at Naval Station Pascagoula, MS, Lakeside Manor and Sandhill Housing areas is published in the Federal Register.

Redevelopment Authority. The local redevelopment authority for Naval Station Pascagoula, Lakeside Manor and Sandhill Housing areas is the Naval Station Pascagoula Local Redevelopment Planning Authority, 3033 Pascagoula Street, P.O. Drawer 1558, Pascagoula, MS 39568. The point of contact is Mr. George Freeland, telephone 228-769-6263.

Surplus Property Description. The following is a list of the land and facilities at Naval Station Pascagoula, Lakeside Manor and Sandhill Housing areas that are surplus to the needs of the Federal Government.

a. Lakeside Manor Housing Area.

(1) Land. Naval Station Pascagoula, Lakeside Manor consists of approximately 33 acres of improved land located within Jackson County and the City of Pascagoula. In general, this area will be available in September 2011.

(2) Buildings. The following is a summary of the buildings and other improvements located on the above-described land that will also be available when the installation closes. Property numbers are available on request.

(a) Bachelor quarters housing (2 structures).

Comments: Approximately 186,400 square feet.

(b) Maintenance facility (1 structure).

Comments: Approximately 2,500 square feet.

(c) Miscellaneous facilities (4 structures).

Comments: Approximately 2,000 square feet. Includes guard shack, auto hobby shop, wash rack and restroom.

(d) Paved areas (roads and surface areas).

Comments: Approximately 13,300 square yards of roads, sidewalks, parking lots, etc).

(e) Recreational facilities include ball fields, playgrounds, and indoor recreation areas.

b. Sandhill Housing area.

(1) Land. Naval Station Pascagoula, MS, Sandhill Landing consists of approximately 73 acres of improved land located within Jackson County, MS and the City of Gautier, MS. In general, this area will be available in September 2011.

(2) Buildings. The following is a summary of the buildings and other improvements located on the above-described land that will also be available after the installation closes. Property numbers are available on request.

(a) Housing units (160 units). Comments: 94 three-bedroom townhouse apartments and 66 four-bedroom apartments.

(b) Paved areas (roads and surface areas). Comments: Approximately 16,443 square yards consisting of roads and other surface areas, i.e., sidewalks, parking lots, etc).

(c) Recreational facilities. Comments: Measuring systems vary; basketball and tennis courts, tot lots, picnic, and playgrounds.

Redevelopment Planning. Pursuant to Section 2905(b)(7)(F) of the Act, the Naval Station Pascagoula Redevelopment Planning Authority (the LRA) will conduct a community outreach effort with respect to the surplus property and will publish, within 30 days of the date of this notice, in a newspaper within the vicinity of the Naval Station Pascagoula, MS, Lakeside Manor and Sandhill Housing areas, the time period during which the LRA will receive interest from State and local governments, representatives of the homeless, and other interested parties. This publication shall include the name, address, telephone number, and the point of contact for the LRA who can provide information on the prescribed form and contents of the notices of interest.

Dated: May 3, 2006.
Eric McDonald,
Lieutenant Commander, Judge Advocate General's Corps, U.S. Navy, Federal Register Liaison Officer.

[FR Doc. E6-7098 Filed 5-9-06; 8:45 am]

BILLING CODE 3810-FF-P